ENVIRONMENTAL PROTECTION AGENCY

[ER-FRL-8996-4]

Environmental Impacts Statements;

Notice of Availability

Responsible Agency: Office of Federal Activities, General Information (202) 564-1399 or http://www.epa.gov/compliance/nepa/

Weekly receipt of Environmental Impact Statements

Filed 04/04/2011 Through 04/08/2011

Pursuant to 40 CFR 1506.9.

Notice

In accordance with Section 309(a) of the Clean Air Act, EPA is required to make its comments on EISs issued by other Federal agencies public. Historically, EPA met this mandate by publishing weekly notices of availability of EPA comments, which includes a brief summary of EPA's comment letters, in the Federal Register. Since February 2008, EPA has included its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20110108, Draft EIS, USFS, OR, Kapka Butte Sno-Park Project, Proposal to Build a New Sno-Park to Provide more High-Elevation Parking for Winter Recreationist, Bend-Ft. Rock Ranger District, Deschutes National Forest, Deschutes County, OR, Comment Period Ends: 05/30/2011, Contact: Beth Peer 541-383-4769.

EIS No. 20110109, Draft EIS, USFS, OR, Snow Basin Vegetation Management Project, Proposal to Implementing Commercial Harvest of Timber, Post Harvest Non-Commercial Thinning, Whitman Ranger District, Wallowa-Whitman Forest, Baker County, OR, Comment Period Ends: 05/30/2011, Contact: Dea Nelson 541-523-1316.

EIS No. 20110110, Draft EIS, RUS, GA, Biomass Power Plant Project, Application for Financial Assistance to Construction 100 Megawatt (MW) Biomass Plant and Related Facilities, Warren County, GA, Comment Period Ends: 05/31/2011, Contact: Stephanie A. Strength 970-403-3559.

EIS No. 20110111, Draft EIS, FERC, WA, Wells Hydroelectric Project, Application to Relicense, Public Utility District No. 1 Columbia River near Pateros and Brewster in Douglas, Okanogan, and Chelan Counties, WA, Comment Period Ends: 05/30/2011, Contact: Mary O'Driscoll 1-866-208-3372.

EIS No. 20110112, Draft EIS, BLM, NM, HB In-Situ-Solution Mining Project, Proposal to Extract the Potash Remaining in Inactive Underground Mine, Eddy County, NM, Comment Period Ends: 06/13/2011, Contact: David Alderman 575-234-6232.

EIS No. 20110113, Final EIS, FHWA, MI, M-15 Reconstruction, I-75 to I-69, Funding and NPDES and U.S. Army COE Section 404 Permits Issuance, Oakland and Genesee Counties, MI, Review Period Ends: 05/16/2011, Contact: David T.Williams 517-702-1820.

EIS No. 20110114, Draft EIS, FERC, WA, Boundary Hydroelectric Project, Application for Hydroelectric License, FERC Project No. 2144-038 and Sullivan Creek Project, Application for Surrender of Hydropower FERC Project No. 2225-015, Pend Oreille County, WA, Comment Period Ends: 05/30/2011, Contact: Mary O'Driscoll 1-866-208-3372.

EIS No. 20110115, Final EIS, BLM, NV, Genesis Project, Proposes Expansion of Existing Mine Pits and Development of the Bluestar Ridge Open Pit Mine, Newmont Mining Corporation, Eureka County, NV, Review Period Ends: 05/09/2011, Contact: Kirk Laird 775-753-0272.

EIS No. 20110116, Draft EIS, NOAA, 00, Amendment 10 to the Fishery Management Plan for Spiny Lobster, Establish Annual Catch Limits and Accountability Measures for Caribbean Spiny Lobster, Gulf of Mexico and South Atlantic Regions, Comment Period Ends: 06/01/2011, Contact: Roy E. Crabtree, PhD 727-824-5701.

EIS No. 20110117, Final EIS, BLM, CA, First Solar Desert Sunlight Solar Farm (DSSF) Project, Proposing To Develop a 550-Megawatt Photovoltaic Solar Project, Also Proposes to Facilitate the Construction and Operation of the Red Bluff Substation, California Desert Conservation Area (CDCA) Plan, Riverside County, CA, Review Period Ends: 05/09/2011, Contact: Allison Shaffer 760-833-7104.

EIS No. 20110118, Final EIS, DOI, WA, Cle Elum Dam Fish Passage Facilities and Fish Reintroduction Project, To Restore Connectivity, Biodiversity, and Natural Production of Anadromous Salmonids, Kittitas County, WA, Review Period Ends: 05/08/2011, Contact: Jim Taylor 208-378-5081.

EIS No. 20110119, Final EIS, USFS, CA, Kings River Experimental Watershed Forest Health and Research Project, Implementation, Sierra National Forest, High Sierra Ranger District, Fresno County, CA, Review Period Ends: 05/09/2011, Contact: Judi Tapia 559-297-0706 Ext. 4938.

Amended Notices

EIS No. 20100118, Draft EIS, USACE, KY, Withdrawn—East Kentucky Power Cooperative, Proposed Baseload Power Plant, to Constructing and Operating a 278 Megawatt Circulating Fluidized Bed Electric Generating Unit (CFD), and Associated Infrastructure at the Existing J.K. Smith Power Station, Application for US Army COE Section 10 and 404 Permits, Clark County, KY, Comment Period Ends: 05/24/2010, Contact: Michael Hasty 502-315-6676. Revision to FR Notice Published: Officially Withdrawn by the Preparing Agency by letter dated 04/05/2011.

Dated: April 12, 2011.
Aimee S. Hessert,
Deputy Director, NEPA Compliance Division, Office of Federal Activities.

[FR Doc. 2011-9185 Filed 4-14-11; 8:45 am]

BILLING CODE 6560-50-P